DEPARTMENT OF TRANSPORTATION

National Highway Traffic Safety Administration

49 CFR Part 571

[Docket No. NHTSA-2024-0034]

Federal Motor Vehicle Safety Standards; Rear Impact Guards; Rear Impact Protection; Denial of Petition for Rulemaking

AGENCY: National Highway Traffic Safety Administration (NHTSA), Department of Transportation (DOT).

ACTION: Denial of petitions for rulemaking.

SUMMARY: This document denies a petition for rulemaking from Jerry and Marianne Karth, Eric Hein, and Lois Durso-Hawkins, requesting that NHTSA amend Federal Motor Vehicle Safety Standards (FMVSS) No. 223, “Rear impact guards,” and FMVSS No. 224, “Rear impact protection,” to include additional requirements. The agency is denying the petition because it does not provide new or different information that would warrant initiation of a rulemaking at this time. This document also discusses NHTSA's consideration of a similar petition from the same petitioners submitted to the docket of the July 15, 2022 final rule amending FMVSS Nos. 223 and 224.

DATES: July 15, 2024.

ADDRESSES: National Highway Traffic Safety Administration, 1200 New Jersey Avenue SE, West Building, Washington, DC 20590.

FOR FURTHER INFORMATION CONTACT:

For technical issues: Ms. Lina Valivullah, National Highway Traffic Safety Administration, 1200 New Jersey Avenue SE, West Building, Washington, DC 20590, (telephone) (202) 366-8786, (email) Lina.Valivullah@dot.gov.

For legal issues: Ms. Callie Roach, Office of the Chief Counsel, National Highway Traffic Safety Administration, 1200 New Jersey Avenue SE, West Building, Washington, DC 20590, (telephone) (202) 366-2992, (email) Callie.Roach@dot.gov.

SUPPLEMENTARY INFORMATION:

Table of Contents

I. Background

II. Petitions Received

III. Petitions To Initiate Rulemaking

IV. Agency Response

V. Conclusion

I. Background

The National Traffic and Motor Vehicle Safety Act (“Safety Act”) (49 U.S.C. 30101 et seq.) authorizes the Secretary of Transportation (NHTSA by delegation) ¹ to issue safety standards for new motor vehicles and new items of motor vehicle equipment. The Safety Act requires, at 49 U.S.C. 30111, motor vehicle safety standards to be practicable, meet the need for motor vehicle safety, and be stated in objective terms. Pursuant to this authority, NHTSA issued Federal Motor Vehicle Safety Standard (FMVSS) No. 223, “Rear impact guards,” and FMVSS No. 224, “Rear impact protection,” which together provide protection for occupants of passenger vehicles in crashes into the rear of trailers and semitrailers.

¹ 49 CFR 1.95.

On July 15, 2022, NHTSA published a final rule in the Federal Register upgrading FMVSS Nos. 223 and 224 by adopting requirements similar to Transport Canada's standard for rear impact guards.² The updated safety standards require rear impact guards to provide sufficient strength and energy absorption to protect occupants of compact and subcompact passenger cars impacting the rear of trailers at 56 kilometers per hour (km/h) (35 miles per hour (mph)). This final rule provides upgraded protection in crashes in which the passenger motor vehicle hits the rear of the trailer or semitrailer such that 50 to 100 percent of the width of the passenger motor vehicle overlaps the rear of the trailer or semitrailer.

² 87 FR 42339.

II. Petitions Received

NHTSA received a petition for rulemaking from Jerry and Marianne Karth, Eric Hein, and Lois Durso-Hawkins dated August 18, 2022, requesting that NHTSA initiate rulemaking “to require that Rear Impact Guards on van-type or box semitrailers are able to prevent underride by passenger vehicles at 35 mph in 30% offset crashes.”

NHTSA received a similar submission from Jerry and Marianne Karth, Eric Hein, Lois Durso-Hawkins, Aaron Kiefer, Andy Young, and Garrett Mattos dated July 15, 2022, submitted as a petition for reconsideration of the July 15, 2022 final rule.³ That petition requested revision of the final rule to include additional requirements. The July 15, 2022 submission does not meet the requirements in 49 CFR part 553 for a petition for reconsideration.⁴ For this reason, the agency has decided to consider that submission as a petition for rulemaking. Due to the similarities in the issues raised in the August 18, 2022 petition and the July 15, 2022 submission, NHTSA is responding to both in this single document.

³ Docket No. NHTSA-2022-0053-0003, document titled “Petition for Reconsideration of the Rear Impact Guard Rule (July 2022)”, available at https://www.regulations.gov/document/NHTSA-2022-0053-0003.

⁴ While it was submitted as a petition for reconsideration, the petition did not explain “why compliance with the rule is not practicable, is unreasonable, or is not in the public interest,” as required by 49 CFR part 553. In addition, the petitioners did not assert that the requirements established by the final rule should be stayed or revoked. For these reasons, the petition does not meet the requirements in 49 CFR part 553 for a petition for reconsideration.

III. Petitions To Initiate Rulemaking

In the August 18 petition, the petitioners requested that NHTSA promptly initiate rulemaking to require that rear impact guards on trailers provide protection in 30 percent overlap crashes at 35 mph. The petitioners stated that this type of crash is known to result in death and significant injuries, including in collisions with rear impact guards designed to meet the requirements in the July 15, 2022 final rule. In support of their petition, the petitioners stated that NHTSA had been directed by Congress to “protect the safety of the driving public against unreasonable risk of death or injury” and claimed that the agency had failed to fulfill these directives.⁵ They noted NHTSA's “acknowledg[ment] that [the final rule] is a minimum standard” but asserted that it “lacks a genuine commitment to the USDOT's National Roadway Safety Strategy.” The petitioners stated that there is much debate about the frequency of underride crashes, including those at the 30 percent offset, that 30 percent overlap crashes more often result in more severe injuries due to the failure of the guard and passenger compartment intrusion, and that the agency's reasons for not adding a requirement are incongruous and unfounded. Citing rear impact guard testing by the Insurance Institute for Highway Safety (IIHS) and existing guard designs that have received the TOUGHGUARD award, the petitioners disagreed with NHTSA's decision that additional research was needed before adding a 30 percent overlap requirement.

⁵ The petition references report language accompanying the 2022 appropriations bill urging NHTSA to complete rulemaking to improve rear guards that ultimately meet the Insurance Institute for Highway Safety standards for Toughguard awards. House Report No. 117-99 at p. 53; see also the Joint Explanatory Statement accompanying the Consolidated Appropriations Act, 2022 (Division L—Transportation, Housing and Urban Development and Related Appropriations Act, 2022, Pub. L. 117-103). However, report language must be read in the context of the specific statutory requirements to which NHTSA is subject under the Safety Act.

The petitioners' July 15 submission advanced essentially the same arguments, that NHTSA had failed to address the guard deficiencies for 30 percent overlap protection identified by IIHS and that the agency had “summarily dismissed” IIHS's research in issuing the final rule. The petitioners also argued that the 2022 final rule did not address the concern that the attachments of the guards to the trailers were too weak. The petitioners noted that some manufacturers offered their redesigned guards as standard, while other manufacturers offered them only as an option, and that NHTSA “has demonstrated an unwillingness to require that all manufacturers install these stronger guards as Standard on new trailers” and has continued to allow unreasonable risk when there is “available and proven technology.” They asserted that the Advisory Committee on Underride Protection (ACUP) should have been able to provide input before the final rule was issued.

IV. Agency Response

All NHTSA rulemaking actions establishing an FMVSS must meet the Safety Act's requirements. The FMVSS must be practicable, it must meet the need for motor vehicle safety, and it must be objective, reasonable, and appropriate for the motor vehicle type for which it is prescribed. While a particular trailer model may include a more robust guard as standard, the agency must consider the effect of a mandate on all vehicles subject to FMVSS No. 223 and FMVSS No. 224. As explained in the preamble to the final rule (see 87 FR 42359-42360), analysis of the costs and weights for currently available trailers and rear impact guard designs led to the conclusion that a 30 percent overlap condition would not be reasonable or practicable for this FMVSS and would not meet the requirements of Sections 30111(a) and (b) of the Safety Act for issuance of FMVSS. NHTSA continues to research potential cost-effective rear impact guard designs that could improve protection in 30 percent overlap crashes while enhancing protection in full and 50 percent overlap crashes at higher speeds. Issuance of the final rule does not preclude future rulemaking upon the completion of additional research. The agency will consider all input from ACUP's complete report and will consider all views in any future rulemaking.⁶

⁶ While Petitioners urged that the views of the ACUP should have been considered before issuing a final rule, we note that they do not seek revocation of the final rule.

V. Conclusion

In accordance with 49 U.S.C. 30162 and 49 CFR part 552, NHTSA is denying two petitions for rulemaking requesting that NHTSA initiate rulemaking to amend FMVSS No. 223, “Rear impact guards,” and FMVSS No. 224, “Rear impact protection,” to include additional requirements. NHTSA is denying these petitions because the petitioners did not provide new or different information that would warrant initiation of a rulemaking at this time.

Issued in Washington, DC, under authority delegated in 49 CFR 1.95 and 501.5.
Raymond R. Posten,
Associate Administrator for Rulemaking.

[FR Doc. 2024-13956 Filed 7-12-24; 8:45 am]

BILLING CODE 4910-59-P